DEPARTMENT OF TRANSPORTATION

Federal Aviation Administration

14 CFR Part 39

[Docket No. FAA-2018-0390; Product Identifier 2017-NM-130-AD; Amendment 39-19397; AD 2018-18-18]

RIN 2120-AA64

Airworthiness Directives; Airbus SAS Airplanes

AGENCY: Federal Aviation Administration (FAA), Department of Transportation (DOT).

ACTION: Final rule.

SUMMARY: We are adopting a new airworthiness directive (AD) for all Airbus SAS Model A300 series airplanes. This AD was prompted by a revision of an airworthiness limitation items (ALI) document. This AD requires revising the maintenance or inspection program, as applicable, to incorporate the specified maintenance requirements and airworthiness limitations. We are issuing this AD to address the unsafe condition on these products.

DATES: This AD is effective October 23, 2018.

ADDRESSES:

Examining the AD Docket

You may examine the AD docket on the internet at http://www.regulations.gov by searching for and locating Docket No. FAA-2018-0390; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Dan Rodina, Aerospace Engineer, International Section, Transport Standards Branch, FAA, 2200 South 216th St., Des Moines, WA 98198; telephone and fax 206-231-3225.

SUPPLEMENTARY INFORMATION:

Discussion

We issued a notice of proposed rulemaking (NPRM) to amend 14 CFR part 39 by adding an AD that would apply to all Airbus SAS Model A300 series airplanes. The NPRM published in the Federal Register on May 11, 2018 (83 FR 21955). The NPRM was prompted by a revision of an ALI document. The NPRM proposed to require revising the maintenance or inspection program, as applicable, to incorporate the specified maintenance requirements and airworthiness limitations.

We are issuing this AD to address the reduced structural integrity of the airplane and possible loss of controllability of the airplane.

The European Aviation Safety Agency (EASA), which is the Technical Agent for the Member States of the European Union, has issued EASA AD 2017-0145, dated August 31, 2017 (referred to after this as the Mandatory Continuing Airworthiness Information, or “the MCAI”), to correct an unsafe condition for all Airbus SAS Model A300 series airplanes. The MCAI states:

Some airworthiness limitations previously defined in A300 ALS [Airworthiness Limitations Section] Part 1 have been removed from that document and should normally be included in an ALS Part 4. Airbus does not plan to issue an ALS Part 4 for A300 aeroplanes.

Nevertheless, failure to comply with these airworthiness limitations could result in an unsafe condition.

For the reason described above, it has been decided to require the application of these airworthiness limitations through a separate AD.

Previously, EASA issued AD 2013-0210 [which corresponds to FAA AD 2014-16-13, Amendment 39-17937 (79 FR 51083, August 27, 2014) (“AD 2014-16-13”)] to require implementation of airworthiness limitations applicable to main landing gear (MLG) barrel assembly, retraction actuator assembly, linkage assembly and flanged duct, which were previously defined in Revision 00 of A300 ALS Part 1 but removed from Revision 01 of A300 ALS Part 1, adding those limits as an Appendix to the AD.

Since EASA AD 2013-0210 was issued, improvement of safe life component selection resulted, among others, in removal of 15 nose landing gear (NLG) parts from Revision 02 of A300 ALS Part 1.

Consequently, this [EASA] AD retains the requirements of EASA AD 2013-0210, which is superseded, and requires, in addition to the implementation of airworthiness limitations already contained in EASA AD 2013-0210, the implementation of airworthiness limitations applicable to NLG barrel assembly and shock absorber assembly, previously contained in Revision 01 of A300 ALS Part 1, as specified in Appendix 1 of this AD.

You may examine the MCAI in the AD docket on the internet at http://www.regulations.gov by searching for and locating Docket No. FAA-2018-0390.

Comments

We gave the public the opportunity to participate in developing this final rule. The following presents the comment received on the NPRM and the FAA's response to the comment.

Request To Supersede AD 2014-16-13

Airbus questioned the need to keep AD 2014-16-13 and whether the proposed AD should instead supersede AD 2014-16-13. Airbus noted that the proposed AD lists all of the ALIs in EASA AD 2017-0145, dated August 31, 2017, not just the ALIs that have been updated since we issued AD 2014-16-13. We infer that Airbus wanted the proposed AD changed to a supersedure AD.

We disagree with the request to change this AD to a supersedure AD. To address the unsafe condition, we chose to match EASA AD 2017-0145, dated August 31, 2017, and include the same ALIs. Because accomplishment of the requirements of this AD terminates all requirements of AD 2014-16-13, a supersedure is not necessary. We have not changed this AD in this regard.

Request To Release Related ADs at the Same Time

Airbus requested that we release this final rule at the same time as the following related ADs to provide clarity to operators. All four pending ADs are related to the same removal of 15 nose landing gear parts from ALS Part 1, on different airplane models.

• Docket No. FAA-2018-0364, Product Identifier 2017-NM-154-AD (EASA AD 2017-0204, dated October 12, 2017).

• Docket No. FAA-2018-0365, Product Identifier 2017-NM-155-AD (EASA AD 2017-0203, dated October 12, 2017).

• Docket No. FAA-2018-0396, Product Identifier 2017-NM-156-AD (EASA AD 2017-0202, dated October 12, 2017).

We agree with the request insofar as we can control the publication schedule. While we cannot ensure that all four will be published on the same date, we will coordinate with the Office of the Federal Register (OFR) and attempt to issue all four final rules at the same time.

Conclusion

We reviewed the relevant data, considered the comments received, and determined that air safety and the public interest require adopting this final rule with the changes described previously and minor editorial changes. We have determined that these minor changes:

• Are consistent with the intent that was proposed in the NPRM for addressing the unsafe condition; and

• Do not add any additional burden upon the public than was already proposed in the NPRM.

We also determined that these changes will not increase the economic burden on any operator or increase the scope of this final rule.

Costs of Compliance

We estimate that this AD affects 5 airplanes of U.S. registry.

We estimate the following costs to comply with this AD:

We have determined that revising the maintenance or inspection program takes an average of 90 work-hours per operator, although we recognize that this number may vary from operator to operator. In the past, we have estimated that this action takes 1 work-hour per airplane. Since operators incorporate maintenance or inspection program changes for their affected fleet(s), we have determined that a per-operator estimate is more accurate than a per-airplane estimate. Therefore, we estimate the total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-18-18 Airbus SAS: Amendment 39-19397; Docket No. FAA-2018-0390; Product Identifier 2017-NM-130-AD.

(a) Effective Date

This AD is effective October 23, 2018.

(b) Affected ADs

This AD affects AD 2014-16-13, Amendment 39-17937 (79 FR 51083, August 27, 2014) (“AD 2014-16-13”).

(c) Applicability

This AD applies to Airbus SAS Model A300 B2-1A, B2-1C, B2K-3C, B2-203, B4-2C, B4-103, and B4-203 airplanes, certificated in any category.

(d) Subject

Air Transport Association (ATA) of America Code 05, Time Limits/Maintenance Checks.

(e) Reason

This AD was prompted by a revision of an airworthiness limitation items (ALI) document. We are issuing this AD to prevent reduced structural integrity of the airplane and possible loss of controllability of the airplane.

(f) Compliance

Comply with this AD within the compliance times specified, unless already done.

(g) Revision of Maintenance or Inspection Program

Within 90 days after the effective date of this AD, revise the maintenance or inspection program, as applicable, to incorporate the safe life limits included in figure 1 to paragraph (g) of this AD. The initial compliance time for the replacements is prior to the applicable life limits specified in figure 1 to paragraph (g) of this AD, or within 90 days after the effective date of this AD, whichever occurs later. The term “FH” in figure 1 to paragraph (g) of this AD means total flight hours. The term “LDG” in figure 1 to paragraph (g) of this AD means total airplane landings.

BILLING CODE 4910-13-P

BILLING CODE 4910-13-P

(h) No Alternative Actions or Intervals

After the maintenance or inspection program has been revised as required by paragraph (g) of this AD, no alternative actions (e.g., inspections) or intervals may be used unless the actions or intervals are approved as an alternative method of compliance (AMOC) in accordance with the procedures specified in paragraph (j)(1) of this AD.

(i) Terminating Action for AD 2014-16-13

Accomplishing the actions required by this AD terminates all requirements of AD 2014-16-13.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(k) Related Information

(1) Refer to Mandatory Continuing Airworthiness Information (MCAI) EASA AD 2017-0145, dated August 31, 2017, for related information. This MCAI may be found in the AD docket on the internet at http://www.regulations.gov by searching for and locating Docket No. FAA-2018-0390.

(2) For more information about this AD, contact Dan Rodina, Aerospace Engineer, International Section, Transport Standards Branch, FAA, 2200 South 216th St., Des Moines, WA 98198; telephone and fax 206-231-3225.

(l) Material Incorporated by Reference

None.

Issued in Des Moines, Washington, on August 24, 2018.
James Cashdollar,
Acting Director, System Oversight Division, Aircraft Certification Service.

[FR Doc. 2018-19854 Filed 9-17-18; 8:45 am]

BILLING CODE 4910-13-P